DEPARTMENT OF LABOR

Office of the Assistant Secretary for Veterans' Employment and Training

The Advisory Committee on Veterans' Employment, Training and Employer Outreach (ACVETEO); Notice of Cancellation of Open Meeting

The quarterly the Advisory Committee on Veterans' Employment, Training and Employer Outreach (ACVETEO) meeting scheduled for Friday, March 20, 2009 from 8:30 a.m. to 3:30 p.m., at the Omni Hotel, 401 Chestnut Street, second floor meeting room, Philadelphia, PA, has been postponed until further notice.

Signed in Washington, DC, this 11th day of March 2009.
John M. McWilliam,
Deputy Assistant Secretary, Veterans' Employment and Training Service.

[FR Doc. E9-5659 Filed 3-16-09; 8:45 am]

BILLING CODE 4510-79-P